GOVERNMENT ACCOUNTABILITY OFFICE

Medicare Payment Advisory Commission Nomination Letters

AGENCY: Government Accountability Office (GAO).

ACTION: Notice on letters of nomination.

SUMMARY: The Balanced Budget Act of 1997 established the Medicare Payment Advisory Commission (MedPAC) and gave the Comptroller General responsibility for appointing its members. For appointments to MedPAC that will be effective May 1, 2013, I am announcing the following: Letters of nomination should be submitted between January 15 and March 8, 2013, to ensure adequate opportunity for review and consideration of nominees prior to the appointment of new members.

ADDRESSES:

GAO: MedPACappointments@gao.gov.

GAO: 441 G Street NW., Washington, DC 20548.

MedPAC: 601 New Jersey Avenue NW., Suite 9000, Washington, DC 20001.

FOR FURTHER INFORMATION CONTACT: GAO: Office of Public Affairs, (202) 512-4800.

42 U.S.C. 1395b-6.

Gene L. Dodaro,
Comptroller General of the United States.

[FR Doc. 2013-00335 Filed 1-10-13; 8:45 am]

BILLING CODE 1610-02-M